DEPARTMENT OF THE TREASURY

Internal Revenue Service

Proposed Collection; Comment Request for Forms 12339, 12339-B, 12339-C, and 13775

AGENCY: Internal Revenue Service (IRS), Treasury.

ACTION: Notice and request for comments.

SUMMARY: The Internal Revenue Service, as part of its continuing effort to reduce paperwork and respondent burden, invites the general public and other Federal agencies to take this opportunity to comment on proposed and/or continuing information collections, as required by the Paperwork Reduction Act of 1995. The IRS is soliciting comments concerning Forms 12339, Internal Revenue Service Advisory Council Membership Application; 12339-B, Information Reporting Program Advisory Committee Membership Application, 12339-C, Advisory Committee on Tax Exempt and Government Entities—Membership Application, and Form 13775, Tax Check Waiver.

DATES: Written comments should be received on or before June 1, 2018 to be assured of consideration.

ADDRESSES: Direct all written comments to Laurie Brimmer, Internal Revenue Service, Room 6526, 1111 Constitution Avenue NW, Washington, DC 20224.

FOR FURTHER INFORMATION CONTACT: Requests for additional information or copies of the form and instructions should be directed to Sara Covington at Internal Revenue Service, Room 6526, 1111 Constitution Avenue NW, Washington, DC 20224, or at (202) 317-6038 or through the internet at sara.l.covington@irs.gov.

SUPPLEMENTARY INFORMATION:

Title: Internal Revenue Service Advisory Council—Membership Application, Information Reporting Program Advisory Committee—Membership Application, and Advisory Committee on Tax Exempt and Government Entities—Membership Application.

OMB Number: 1545-1791.

Form Numbers: 12339, 12339-B & 12339-C.

Abstract: Form 12339 must be completed by those individuals interested in applying for IRSAC. Form 12339-B must be completed by those interested in applying for IRPAC. Form 12339-C was created to better solicit and maintain all of the applicant information for those interested in becoming members of these Advisory Councils. Each form is submitted in conjunction with Form 13775, Tax Check Waiver.

Estimated Number of Respondents: 500.

Estimated Time per Response: 50 minutes.

Estimated Total Annual Burden Hours: 417.

Title: Tax Check Waiver.

OMB Number: 1545-1791.

Form Number: 13775.

Abstract: Form 13775 authorizes the Government Liaison Disclosure analysts to provide the tax compliance check results to the appropriate IRS officials.

Estimated Number of Respondents: 50.

Estimated Time per Response: 1 hr, 30 minutes.

Estimated Total Annual Burden Hours: 75.

Current Actions: There are no changes to the forms (12339, 12339-B, 12339-C and 13775) in this collection.

Type of Review: Extension of a previously approved collection.

Affected Public: Individuals or households, and businesses or other for-profit organizations.

The following paragraph applies to all of the collections of information covered by this notice: An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: March 27, 2018.
Laurie Brimmer,
Senior Tax Analyst.

[FR Doc. 2018-06675 Filed 3-30-18; 8:45 am]

BILLING CODE 4830-01-P